DEPARTMENT OF THE INTERIOR

Bureau of Land Management

[LLNMF00000.L13100000.PP0000 18X LXSSG0860000]

Notice of Public Meeting, Farmington District Resource Advisory Council, New Mexico

AGENCY: Bureau of Land Management, Interior.

ACTION: Notice of public meeting.

SUMMARY: In accordance with the Federal Land Policy and Management Act of 1976 and the Federal Advisory Committee Act of 1972, the U.S. Department of the Interior, Bureau of Land Management (BLM) Farmington District Resource Advisory Council (RAC) will meet as indicated below.

DATES: The Farmington District RAC will hold a public meeting on Tuesday, July 10, 2018, from 8:00 a.m. to 4:00 p.m., and a field trip on Wednesday, July 11, 2018, from 8:00 a.m. to 12:00 p.m.

ADDRESSES: The Farmington District RAC will meet at the Kit Carson Electrical Cooperative Boardroom at 118 Cruz Alta Road, Taos, NM 87571. The field trip participants will depart from the BLM Taos Field Office at 226 Cruz Alta Road, Taos, NM 87571.

FOR FURTHER INFORMATION CONTACT: Zach Stone, Public Affairs Specialist, BLM Farmington District Office, 6251 College Blvd., Suite A, Farmington, NM 87402, (505) 564-7677, or zstone@blm.gov. Persons who use a telecommunications device for the deaf (TDD) may call the Federal Relay Service (FRS) at (800) 877-8339. The FRS is available 24 hours a day, 7 days a week, to leave a message or question with Mr. Stone. You will receive a reply during normal business hours.

SUPPLEMENTARY INFORMATION: The Farmington District RAC consists of 10 members chartered and appointed by the Secretary of the Interior. Their diverse perspectives are represented in commodity, conservation, and general interests. They provide advice to BLM resource managers regarding management plans and proposed resource actions on public land in the BLM's Farmington District. Both the field trip and meeting are open to the public. However, the public is required to provide its own transportation for the field trip. Information to be distributed to the Farmington District RAC is requested prior to the start of each meeting.

Agenda items for the July 10 meeting include updates on: The 2017/2018 RAC nominations; the RAC charter; Farmington Field Office Resource Management Plan Amendment; updates in the Taos planning area; general recreation planning for the Taos and Farmington Field Offices; updates in the San Pedro Area; BLM efforts to gather additional cultural/ethnographic data for cultural site protection; the postponement of the 2018 spring oil and gas leasing in the Farmington Field Office area; and the methane emission rules. There will be a discussion on the Rio Grande Trail/State Partnership and a potential event scheduled for October 2, 2018, to celebrate the 50th Anniversary of the National Trails System Act of 1968; and any other topics that may reasonably come before the Farmington District RAC may also be addressed. On July 11, the RAC will participate in a field trip to the Rio Grande Trail improvement areas. More information is available at https://www.blm.gov/get-involved/resource-advisory-council/near-you/new-mexico/farmington-district-rac.

The July 10, 2018, meeting will include a public comment period from 3:00 p.m. to 3:30 p.m. Depending on the number of persons wishing to comment and time available, the amount of time for individual oral comments may be limited. The public may also submit written comments to Zach Stone, Farmington District, New Mexico, 6251 College Blvd., Suite A, Farmington, NM 87402; or by email at zstone@blm.gov, or by telephone (505) 564-7677, no later than July 9, 2018, to be made available to the RAC at the July 10, 2018, meeting. All written comments received prior to the meeting will be provided to the council members.

Before including your address, phone number, email address, or other personal identifying information in your comments, please be aware that your entire comment, including your personal identifying information, may be made publicly available at any time. While you can ask us in your comment to withhold your personal identifying information from public review, we cannot guarantee that we will be able to do so. Individuals who plan to attend and need special assistance, such as sign language interpretation, tour transportation or other reasonable accommodations, should contact the BLM as provided above.

Authority: 43 CFR 1784.4-2.

Melanie Barnes,
Deputy State Director, Lands and Resources.

[FR Doc. 2018-12610 Filed 6-11-18; 8:45 am]

BILLING CODE 4310-FB-P